DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Economic Performance in the Commercial Stone Crab and Lobster Fisheries in Florida.

Form Number(s): None.

OMB Approval Number: None.

Type of Request: Regular submission.

Burden Hours: 58.

Number of Respondents: 58.

Average Hours per Response: One hour.

Needs and Uses: The objective of the proposed collection is to gather data with which to establish socio-economic baselines in the commercial stone crab and lobster fisheries, assess the financial and economic performance of the industry, and develop economic models to evaluate future management proposals. Data will be collected from stone crab fishermen that land in counties along the west coast of Florida and from lobster/stone crab fishermen that land in the Miami River area. The data collection will occur between May and October 2007 when the stone crab fishery is closed.

Affected Public: Business or other for-profit organizations.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: March 14, 2007.
Gwellnar Banks,
Management Analyst, Office of the Chief Information Officer.

[FR Doc. E7-5093 Filed 3-20-07; 8:45 am]

BILLING CODE 3510-22-P